DEPARTMENT OF THE INTERIOR

National Park Service

Notice of Inventory Completion: U.S. Army Corps of Engineers, Portland District, Portland, OR and University of Oregon Museum of Natural and Cultural History, Eugene, OR

AGENCY: National Park Service, Interior.

ACTION: Notice.

Notice is here given in accordance with provisions of the Native American Graves Protection and Repatriation Act (NAGPRA), 25 U.S.C. 3003, of the completion of an inventory of human remains and associated funerary objects for which the University of Oregon Museum of Natural and Cultural History, Eugene, OR, and U.S. Department of Defense, Army Corps of Engineers, Portland District, Portland, OR, have joint responsibility. The human remains and associated funerary objects were removed from sites on Army Corps of Engineers land within the John Day Dam project area, Klickitat County, WA and Gilliam County, OR.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the University of Oregon Museum of Natural and Cultural History and U.S. Army Corps of Engineers, Portland District professional staff in consultation with representatives of the Confederated Tribes of the Warm Springs Reservation of Oregon.

Native American cultural items described in this notice were excavated under Antiquities Act permits by the University of Oregon, Eugene, OR, on Army Corps of Engineers project lands. Following excavations at the sites described below, and under the provisions of the permits, the University of Oregon was allowed to retain the collections for preservation.

In l959, human remains representing a minimum of eight individuals were removed from site 45-KL-18, also known as the Fountain Bar site, Klickitat County, WA, during an excavation by the University of Oregon prior to construction of the John Day Dam. No known individuals were identified. The 105 associated funerary objects are 1 net sinker, 3 projectile points, 1 preform, 1 chopper, 1 flaked cobble, 1 burin, 5 worked flakes, 5 uncategorized flakes, 3 pebbles, 1 worked antler, 3 dentalia, 6 lots of dentalia (i.e. 4 dentalium vials, 2 boxes of dentalia), 6 shell beads, 1 strand of shell beads, 3 shell pendants, 1 graphite pendant, 3 large disk beaks, 1 vial of large disk beads, 3 small disk beads, 2 small disk bead strands, 33 glass beads, 10 steatite beads, 1 large bead strand, 3 vials of large beads, 1 vial of small beads, 4 vials of assorted beads, 1 individual bead, and 1 vial of yellow ochre.

Site 45-KL-18 extends from the mouth of Rock Creek for more than two miles eastward along the now-inundated, north side shoreline of the Columbia River. The site is described as a severely-looted, vandalized and eroded lithic scatter and cemetery. Although no dates of occupation were obtained by the researchers, the burials were characterized as prehistoric. Based on the associated funerary objects, the human remains have been determined to be Native American.

In l959, human remains representing a minimum of six individuals were removed from the Harrison Site (35-GM-1), on the east bank of the John Day River at its confluence with the Columbia River, Gilliam County, OR, by University of Oregon in conjunction with studies undertaken prior to construction of the John Day Dam. No known individuals were identified. The 12 associated funerary objects are 5 stone drills, 1 bolas stone, 2 flakes, 3 red ochre pieces, and 1 soapstone item.

The Harrison Site is described as a camp site with a burial area and petroglyphs. Prior to federal acquisition of this property, the original landowners excavated much of the site area. No dates of site occupation were obtained by the researchers. Based on the associated artifacts, the human remains have been determined to be Native American.

The sites described above are within the traditional lands of the present-day Confederated Tribes of the Warm Springs Reservation of Oregon. The Confederated Tribes of the Warm Springs Reservation of Oregon are composed of three Wasco bands, four Warm Springs bands, and Northern Paiutes. The Columbia River-based Wasco were the easternmost group of Chinookan-speaking Indians. The Sahaptin-speaking Warm Springs bands lived farther east along the Columbia River and its tributaries. Northern Paiutes, who spoke a Uto-Aztecan language, historically occupied much of southeastern Oregon.

Officials of the U.S. Army Corps of Engineers, Portland District have determined that, pursuant to 25 U.S.C. 3001 (9-10), the human remains described above represent the physical remains of at least 14 individuals of Native American ancestry. Officials of the U.S. Army Corps of Engineers, Portland District have also determined that, pursuant to 25 U.S.C. 3001 (3)(A), the 117 objects described above are reasonably believed to have been placed with or near individual human remains at the time of death or later as part of the death rite or ceremony. Lastly, officials of the U.S. Army Corps of Engineers, Portland District have determined that, pursuant to 25 U.S.C. 3001 (2), there is a relationship of shared group identity that can be reasonably traced between the Native American human remains and associated funerary objects and the Confederated Tribes of the Warm Springs Reservation of Oregon.

Representatives of any other Indian tribe that believes itself to be culturally affiliated with the human remains and associated funerary objects should contact Daniel Mulligan, NAGPRA Coordinator, Environmental Resources Branch, U.S. Army Corps of Engineers, Portland District, P. O. Box 2946, Portland, OR 97208-2946, telephone (503) 808-4768, before October 19, 2007. Repatriation of the human remains and associated funerary objects to the Confederated Tribes of the Warm Springs Reservation of Oregon may proceed after this date if no additional claimants come forward.

The U.S. Army Corps of Engineers, Portland District is responsible for notifying the Confederated Tribes of the Warm Springs Reservation of Oregon that this notice has been published.

Dated: August 30, 2007.
Sherry Hutt,
Manager, National NAGPRA Program.

[FR Doc. E7-18487 Filed 9-18-07; 8:45 am]

BILLING CODE 4312-50-S